DEPARTMENT OF AGRICULTURE

Animal and Plant Health Inspection Service

[Docket No. APHIS-2020-0082]

Addition of Thailand to the List of Regions Considered Affected With African Horse Sickness

AGENCY: Animal and Plant Health Inspection Service, USDA.

ACTION: Notice.

SUMMARY: We are advising the public that we have added Thailand to the list of regions that the Animal and Plant Health Inspection Service considers to be affected with African horse sickness (AHS). We have taken this action because of confirmation of AHS in Thailand.

DATES: Thailand was added to the Animal and Plant Health Inspection Service list of regions considered affected with African horse sickness on March 31, 2020.

FOR FURTHER INFORMATION CONTACT: Dr. Kari Coulson, Regionalization Evaluation Services, Veterinary Services, APHIS, 920 Main Campus Drive, Suite 200, Raleigh, NC 27606; Phone: (919) 480-9876; email: AskRegionalization@usda.gov.

SUPPLEMENTARY INFORMATION: The regulations in 9 CFR part 93 govern the importation of live animals into the United States. Within part 93, § 93.308 (referred to below as the regulations) governs, among other things, the importation of horses, mules, zebras, and other equids from regions where African horse sickness (AHS) exists in order to prevent the introduction of AHS into the United States. AHS is a fatal viral equine disease that is not known to exist in the United States. A list of regions where AHS exists or is reasonably believed to exist is maintained on the Animal and Plant Health Inspection Service (APHIS) website at https://www.aphis.usda.gov/aphis/ourfocus/animalhealth/animal-and-animal-product-import-information/animal-health-status-of-regions/. This list is referenced in § 93.308 of the regulations.

Section 93.308(a)(2)(ii) of the regulations states that APHIS will add a region to the list referenced in § 93.308(a)(2) upon determining AHS exists in the region, based on reports APHIS receives of outbreaks of the disease from veterinary officials of the exporting country, from the World Organization for Animal Health (OIE), or from other sources the Administrator determines to be reliable.

On March 27, 2020, the veterinary authorities of Thailand reported to the OIE the occurrence of AHS in that country. In response to that report, on March 31, 2020, APHIS added Thailand to the list of regions where AHS exists. On that same date, APHIS issued an import alert notifying stakeholders that effective March 27, 2020, APHIS imposed restrictions on importation of equine and equine-derived commodities from Thailand due to AHS. This notice serves as an official record and public notification of that action.

Pursuant to the Congressional Review Act (5 U.S.C. 801 et seq.), the Office of Information and Regulatory Affairs designated this action as not a major rule, as defined by 5 U.S.C. 804(2).

Authority: 7 U.S.C. 1622 and 8301-8317; 21 U.S.C. 136 and 136a; 31 U.S.C. 9701; 7 CFR 2.22, 2.80, and 371.4.

Done in Washington, DC, this 9th day of June 2021.
Mark Davidson,
Acting Administrator, Animal and Plant Health Inspection Service.

[FR Doc. 2021-12419 Filed 6-11-21; 8:45 am]

BILLING CODE 3410-34-P